DEPARTMENT OF VETERANS AFFAIRS

Commission on Care

ACTION: Notice of meeting.

In accordance with the Federal Advisory Committee Act, 5 U.S.C., App. 2, the Commission on Care gives amended notice that it will meet on Monday, December 14, 2015, Tuesday, December 15, 2015, and Wednesday, December 16, 2015 at the J.W. Marriott, Jr. ASAE Conference Center, 1575 I St. NW., Washington, DC 20005. The meeting will convene at 8:30 a.m. and end by 6:00 p.m. on Monday, December 14, 2015. The meeting will convene at 8:30 a.m. and end by 12:45 p.m. on Tuesday, December 15, 2015. The meeting will convene at 8:30 a.m. and end by 1:00 p.m. on Wednesday, December 16. The meeting is open to the public.

The purpose of the Commission, as described in section 202 of the Veterans Access, Choice, and Accountability Act of 2014, is to examine the access of veterans to health care from the Department of Veterans Affairs and strategically examine how best to organize the Veterans Health Administration, locate health care resources, and deliver health care to veterans during the next 20 years.

No time will be allocated at this meeting for receiving oral presentations from the public. The public may submit written statements for the Commission's review to Bernadette Philpot or Mona Bellamy, Commission on Care, at bernadette.philpot@va.gov or mona.bellamy@va.gov, respectively. Any member of the public wanting to attend may contact Ms. Philpot or Ms. Bellamy.

Dated: December 8, 2015.
Sharon Gilles,
Designated Federal Officer, Commission on Care.

[FR Doc. 2015-31237 Filed 12-9-15; 8:45 am]

BILLING CODE 8320-01-P